DEPARTMENT OF COMMERCE

National Oceanic and Atmospheric Administration

50 CFR Part 660

[I.D. 091802B]

Western Pacific Fishery Management Council; Public Meetings

AGENCY: National Marine Fisheries Service (NMFS), National Oceanic and Atmospheric Administration (NOAA), Commerce.

ACTION: Notice of public meetings.

SUMMARY: The 81st meeting of the Western Pacific Fishery Management Council's Scientific and Statistical Committee (SSC) will convene October 8 through 10, 2002, in Honolulu, HI. The Western Pacific Fishery Management Council (Council) Advisory Panels will meet on October 10 through 12, 2002, and the Council will hold its 115th meeting October 14 through 17, 2002, in Honolulu, HI.

DATES: The SSC meeting will be held on October 8, 2002, from 9 a.m. to 5 p.m. and on October 9-10, 2002, from 8:30 a.m. to 12 noon. The Commercial, Recreational, Subsistence/Indigenous and Ecosystem and Habitat Advisory Panels will meet on October 10, 2002, from 2 p.m. to 5 p.m., on October 11 from 8:30 a.m. to 5 p.m., and on October 12, 2002, from 9 a.m. to 12 noon. The Council's Standing Committees will meet on October 14, 2002, from 8 a.m. to 5:30 p.m. The full Council meeting will be held on October 15, 2002, from 9 a.m. to 5 p.m., October 16 from 8:30 a.m. to 5 p.m., and October 17, 2002, from 8:30 a.m. to 12 noon. See SUPPLEMENTARY INFORMATION for specific dates and times for these meetings.

ADDRESSES: The 81st SSC, the Advisory Panel, and the Standing Committee meetings will be held at the Council Office Conference Room, 1164 Bishop St., Suite 1400, Honolulu, HI; telephone: 808 522-8220. The Council meeting will be held at the Pier 11 Gallery, 700 Fort Street, Aloha Tower, Honolulu, HI; telephone: 808-522-8220.

FOR FURTHER INFORMATION CONTACT: Kitty M. Simonds, Executive Director; telephone: 808-522-8220.

SUPPLEMENTARY INFORMATION:

Dates and Times

SSC

The SSC will discuss and may make recommendations to the Council on the agenda items below. The order in which agenda items will be addressed may change. Public comment periods will be provided throughout the meeting agenda. The SSC will meet as late as necessary to complete scheduled business.

Tuesday, October 8, 2002

1. Introduction

2. Approval of draft agenda and assignment of rapporteurs

3. Approval of the minutes of the 80th meeting

4. NMFS cetacean surveys in the Hawaiian Exclusive Economic Zone

5. Applied social impact analysis

6. Crustaceans fisheries (Northwestern Hawaiian Islands (NWHI) Lobsters

A. Report on NWHI lobster research

7. Bottomfish fisheries

A. Hawaii Institute of Marine Biology research and Hawaii Undersea Research Laboratory research

B. Management of Guam offshore bottomfish

8. Ensuring management decisions uses best available science

Wednesday, October 9, 2002

9. Pelagic fisheries

A. Hawaii and American Samoa 2002 quarterly longline reports

B. American Samoa limited entry program

C. American Samoa longline fishery scientific data program

D. Recreational fisheries

(1) Hawaii Marine Recreational Fisheries Survey

(2) International Billfish Angling Survey and the Billfish Tagging Program

(3) Statutory data needs for fishery management

E. Sea Turtle conservation and management

(1) Honolulu Lab mitigation turtle research

(2) New Biological Opinion

(3) Pacific sea turtle recovery plan teams

(4) EIS for Hawaii Section 10 permit

F. International meetings and issues

(1) Standing Committee on Tuna and Billfish (SCTB15)

(2) Prep-Con Scientific Coordinating Group

(3) Inter-American Tropical Tuna Commission

G. Informational needs for pen raising of tuna

Thursday, October 10, 2002

10. Ecosystems and habitat

A. Valuation of Hawaii's coral reef resources

B. Hawaii marine management gap analysis

C. State of Hawaii reef fish catch and effort data

D. New minimum sizes for Hawaii reef fish

E. Pacific Regional Live Reef Fish Trade Management Workshop

11. Other business

12. Summary of recommendations to the Council

Advisory Panels

The Commercial, Recreational, Subsistence/Indigenous and Ecosystem and Habitat sub-panels will meet jointly on Thursday, October 10, 2002, from 2 p.m. to 5 p.m. Sub-panels will meet individually on Friday, October 11, 2002, from 8:30 a.m. to 5 p.m. but reconvene jointly on Saturday, October 12, 2002, from 9 a.m. to 12:00 noon to finalize recommendations. The agenda for the Advisory Panel meetings will include the items listed below. Public comment periods will be provided throughout the agenda. The order in which agenda items are addressed may change. The Advisory Panels will meet as late as necessary to complete scheduled business.

Thursday, October 10, 2002

1. Welcome and introductions

2. Advisory appointments

3. Report on tuna quality, seafood safety, and Food and Drug Administration regulations

4. NMFS International Billfish Angling Survey and tagging program

5. Report on recreational fisheries

A. Regional/national/world round up

B. Fisheries Data Management Plan

6. Commercial round up: regional/national/world

7. Fishery development and research

A. Community Demonstration Projects

B. Report on Saltonstall-Kennedy Funding

C. Pelagic Fisheries Research Program

D. Cooperative Research Plans for Western Pacific Region

Friday, October 11, 2002

8. Sub-panel break-out sessions to discuss issues and develop recommendations

Saturday, October 12, 2002

9. Joint panel session to review and finalize recommendations to the Council

Committee Meetings

The following Standing Committees of the Council will meet on October 14, 2002. Enforcement/Vessel Monitoring System (VMS) from 8 a.m. to 10 a.m.; Fishery Rights of Indigenous People from 9 a.m. to 10 a.m.; International Fisheries/Pelagics from 10 a.m. to 12 noon; Bottomfish from 1:30 p.m. to 3 p.m.; Crustaceans from 1:30 p.m. to 3 p.m.; Ecosystem and Habitat from 3 p.m. to 4:30 p.m.; and Executive/Budget and Program from 4:30 p.m. to 6 p.m.

In addition, the Council will hear recommendations from its advisory panels, plan teams, scientific and statistical committee, and other ad hoc groups. Public comment periods will be provided throughout the meeting agenda. The order in which agenda items are addressed may change. The Council will meet as late as necessary to complete scheduled business.

The agenda during the full Council meeting will include the items listed below.

Tuesday, October 15, 2002

1. Introductions

2. Approval of agenda

3. Approval of 113th and 114th meeting minutes

4. Island reports

A. American Samoa

B. Guam

C. Hawaii

D. Commonwealth of the Northern Mariana Islands

5. Federal Fishery agency and organization reports

A. Department of Commerce

(1) NMFS

(a) Southwest Region, Pacific Islands Area Office (PIAO)

(b) Southwest Fisheries Science Center, La Jolla and Honolulu Laboratories

(2) NOAA General Counsel, Southwest Region

(3) National Ocean Service

(a) National Marine Sanctuaries, NWHI Reserve Designation

B. Department of the Interior

(1) U.S. Fish and Wildlife Service

C. U.S. State Department

6. Enforcement and VMS

A. U.S. Coast Guard activities

B. NMFS activities

C. NWHI Reserve VMS projectG. Status of violations

7. Crustaceans fisheries

A. NWHI lobster research

8. Observer and monitoring programs

A. NMFS PIAO

(1) American Samoa longline fishery scientific data program

(2) Bottomfish

(3) Hawaii longline

B. Native observer program

Wednesday, October 16, 2002

9. Pelagic fisheries

A. Quarterly 2002 Hawaii and American Samoa longline reports

B. American Samoa limited entry program

C. Recreational fisheries

(1) Hawaii Marine Recreational Fisheries Survey

(2) Managing Hawaii's recreational fisheries

D. Sea turtle conservation and management

(1) Honolulu Lab mitigation turtle research

(2) New Biological Opinion

(3) Pacific sea turtle recovery plan

(4) Litigation

E. International meetings and issues

(1) Report on the 15th meeting of the SCTB15

(2) Prep-Con Scientific Coordinating Group

F. Pen raising of tuna off Big Island

G. Fishing in Pacific Remote Island Areas (PRIA)

(1) New rule for troll and handline for pelagic vessels off the PRIA)

(2) Activities at Palmyra Atoll

10. Bottomfish

A. Guam offshore bottomfish management

B. Report on Main Hawaiian Island catch and effort

11. Indigenous fishery rights

A. Status of marine conservation plans

B. Community demonstration projects program

(1) Selection of projects from first solicitation

(2) Second solicitation for program

C. Community development program

12. Program planning

A. Magnuson-Stevens Fishery Conservation and Management Act (Magnuson-Stevens Act) reauthorization

B. Status of NMFS Pacific Island Region

C. NOAA strategic planning

D. Social science research planning

E. Report on statutory data needs for fishery management

F. Education initiatives

Thursday, October, 17, 2002

13. Ecosystems and habitats

A. Report on State of Hawaii NWHI Marine Reserve

B. Reserve request for NWHI bottomfish impact analysis

C. Proposed designation of NWHI as a National Marine Sanctuary

D. Report on Hawaii reef fish commercial catch data

E. Report on US Coral Reef Task Force

F. Report on Caribbean Coral reef Fisheries Management Workshop

G. Status of NWHI reef assessment and monitoring program 2002

H. Report on Secretariat for the Pacific Community Pacific Regional Live Reef Fish Trade Management Workshop

14. Administrative matters

A. Financial reports

B. Administrative reports

C. Upcoming meetings and workshops including the 116th Council meeting

D. Advisory Panel, SSC, Plan Team, NWHI Reserve and Sea Turtle Working Group Appointments

15. Election of officers

16. Other business

Although non-emergency issues not contained in this agenda may come before the Council for discussion, those issues may not be the subject of formal Council action during this meeting. Council action will be restricted to those issues specifically listed in this document and any issue arising after publication of this document that requires emergency action under section 305(c) of the Magnuson-Stevens Act, provided the public has been notified of the Council's intent to take final action to address the emergency.

Special Accommodations

These meetings are physically accessible to people with disabilities. Requests for sign language interpretation or other auxiliary aids should be directed to Kitty M. Simonds, 808-522-8220 (voice) or 808-522-8226 (fax), at least 5 days prior to the meeting date.

Authority: 16 U.S.C. 1801 et seq.

Dated: September 23, 2002.
Virginia M. Fay,
Acting Director, Office of Sustainable Fisheries, National Marine Fisheries Service.

[FR Doc. 02-24521 Filed 9-26-02; 8:45 am]

BILLING CODE 3510-22-S